DEPARTMENT OF TRANSPORTATION

Maritime Administration

[Docket No. MARAD-2001-8770]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before April 13, 2001.

FOR FURTHER INFORMATION CONTACT: Taylor Jones, Maritime Administration, MAR-250, 400 Seventh St., SW., Washington, DC 20590. Telephone: 202-366-5755, FAX: 202-493-2288. Copies of this collection can also be obtained from that office.

SUPPLEMENTARY INFORMATION: Title of Collection: Merchant Marine Medals and Awards.

Type of Request: Extension of currently approved information collection.

OMB Control Number: 2133-0506.

Form Numbers: None.

Expiration Date of Approval: May 31, 2001.

Summary of Collection of Information: This information collection provides a method of awarding merchant marine medals and decorations to masters, officers, and crew members of United States ships in recognition of their service in areas of danger during the operations by the Armed Forces of the United States in World War II, Korea, Vietnam, and Operation Desert Storm.

Need and Use of the Information: This information is used by MARAD personnel to process and verify requests for service awards.

Annual Responses: 1500.

Annual Burden: 1500 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT, Monday through Friday, except Federal Holidays. An electronic version of this document is available on the World Wide Web at http://dms.dot.gov.

By Order of the Maritime Administrator.
Dated: February 7, 2001.
Joel C. Richard,
Secretary.

[FR Doc. 01-3522 Filed 2-9-01; 8:45 am]

BILLING CODE 4910-81-P